DEPARTMENT OF JUSTICE

Notice of Lodging of Consent Decree Under the Clean Air Act

Notice is hereby given that on April 17, 2006, a proposed consent decree in United States of America v. Valero Terrestrial Corporation and Solid Waste Services, Inc., Civil Action No. 05:06-CR-43, was lodged with the United States District Court for the Northern District of West Virginia.

In this action the United States sought civil penalties for alleged violations of the Clean Air Act at the Brooke County Sanitary Landfill, located in Brooke County, West Virginia. The complaint alleged that Valero Terrestrial Corporation and Solid Waste Services, Inc. violated the New Source Performance Standards of the Clean Air Act, 42 U.S.C. 7411, and their implementing regulations, including the New Source Performance Standards for Solid Waste Landfills, 40 CFR part 60 subpart WWW, by failing to install the appropriate control technology and by failing to conduct an initial performance test and routine monitoring. The complaint also alleged that Valero Terrestrial Corporation violated an operating permit issued by the State of West Virginia pursuant to Title V of the Clean Air Act, 42 U.S.C. 7661-7661f. Under the terms of the proposed consent decree, Valero Terrestrial Corporation and Solid Waste Services, Inc. will pay a civil penalty of $300,000.00 plus interest.

The Department of Justice will receive for a period of thirty (30) days from the date of this publication comments relating to the proposed consent decree. Comments should be addressed to the Assistant Attorney General, Environment and Natural Resources Division, P.O. Box 7611, U.S. Department of Justice, Washington, DC 20044-7611, and should refer to United States of America v. Valero Terrestrial Corporation and Solid Waste Services, Inc., D. J. Ref. No. 90-5-2-1-08262.

The proposed Consent Decree may be examined at the Office of the United States Attorney for the Northern District of West Virginia, U.S. Courthouse and Federal Building, 1125 Chapline Street, Suite 3000, Wheeling, WV 26003 and at U.S. EPA Region III, 1650 Arch Street, Philadelphia, PA 19103-2029. During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Robert Brook,
Assistant Chief, Environmental Enforcement Section, Environment and Natural Resources Division.

[FR Doc. 06-3937 Filed 4-25-06; 8:45 am]

BILLING CODE 4410-15-M